ENVIRONMENTAL PROTECTION AGENCY

[EPA-HQ-ORD-2015-0659; FRL-9988-48-ORD]

Proposed Information Collection Request; Comment Request; Generic Clearance for Citizen Science and Crowdsourcing Projects (Renewal)

AGENCY: Environmental Protection Agency (EPA).

ACTION: Notice.

SUMMARY: The Environmental Protection Agency is preparing to submit an information collection request (ICR), “Generic Clearance for Citizen Science and Crowdsourcing Projects (Renewal)” (EPA ICR No. 2521.15, OMB Control No. 2080-0083) to the Office of Management and Budget (OMB) for review and approval in accordance with the Paperwork Reduction Act. Before doing so, EPA is soliciting public comments on specific aspects of the proposed information collection as described below. This is a proposed renewal of the existing ICR, which is currently approved through April 30, 2019. An Agency may not conduct or sponsor and a person is not required to respond to a collection of information unless it displays a currently valid OMB control number.

DATES: Comments must be submitted on or before February 25, 2019.

ADDRESSES: Submit your comments, referencing Docket ID No. EPA-HQ-ORD-2015-0659 referencing the Docket ID numbers provided for each item in the text, online using www.regulations.gov (our preferred method), or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Jay Benforado, IOAA-ORD, (Mail Code 8101R), Environmental Protection Agency, 1200 Pennsylvania Ave. NW, Washington, DC 20460; telephone number 202-564-3262; fax number: 202-565-2494; email address: benforado.jay@epa.gov.

SUPPLEMENTARY INFORMATION:

Supporting documents that explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: EPA relies on scientific information. Citizen science and crowdsourcing techniques will allow the Agency to collect qualitative and quantitative data that might help inform scientific research, assessments, or environmental screening; validate environmental models or tools; or enhance the quantity and quality of data collected across the country's diverse communities and ecosystems to support the Agency's mission. Information gathered under this generic clearance will be used by the Agency to support the activities listed above and might provide unprecedented avenues for conducting breakthrough research. Collections under this generic ICR will be from participants who actively seek to participate on their own initiative through an open and transparent process (the Agency does not select participants or require participation); the collections will be low-burden for participants; collections will be low-cost for both the participants and the Federal Government; and data will be available to support the scientific research (including assessments, environmental screening, tools, models, etc.) of the Agency, states, tribal or local entities where data collection occurs. EPA may, by virtue of collaborating with non-federal entities, sponsor the collection of this type of information in connection with citizen science projects. When applicable, all such collections will comply with Agency policies and regulations related to human subjects research and will follow the established approval paths through EPA's Human Subjects Research Review Official. Finally, personally identifiable information (PII) will only be collected when necessary and in accordance with applicable federal procedures and policies. If a new collection is not within the parameters of this generic ICR, the Agency will submit a separate information collection request to OMB for approval.

Form numbers: None.

Respondents/affected entities: Participants/respondents will be individuals, not specific entities.

Respondent's obligation to respond: Voluntary.

Estimated number of respondents: 17,500 (total) people.

Frequency of response: The frequency of responses will range from once to on occasion.

Total estimated burden: 389,083 hours (per year). Burden is defined at 5 CFR 1320.03(b)

Total estimated cost: $13,784,949 (per year), includes $525,000 annualized capital for operation & maintenance costs.

Changes in estimates: The dollar figures have been updated to reflect current wages.

Dated: December 17, 2018.
Jennifer Orme-Zavaleta,
Principal Deputy Assistant Administrator for Science.

[FR Doc. 2018-28121 Filed 12-26-18; 8:45 am]

BILLING CODE 6560-50-P